DEPARTMENT OF VETERANS AFFAIRS

[OMB Control No. 2900-New (10-21091)]

Agency Information Collection (Operation Enduring Freedom/Operation Iraqi Freedom Veterans Health Needs Assessment) Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before December 19, 2008.

ADDRESSES: Submit written comments on the collection of information through www.Regulations.gov; or to VA's OMB Desk Officer, OMB Human Resources and Housing Branch, New Executive Office Building, Room 10235, Washington, DC 20503, (202) 395-7316. Please refer to “OMB Control No. 2900-New (10-21091)” in any correspondence.

FOR FURTHER INFORMATION OR A COPY OF THE SUBMISSION CONTACT: Denise McLamb, Records Management Service (005R1B), Department of Veterans Affairs, 810 Vermont Avenue, NW., Washington, DC 20420, (202) 461-7485, FAX (202) 273-0443 or e-mail: denise.mclamb@mail.va.gov. Please refer to “OMB Control No. 2900-New (10-21091).”

SUPPLEMENTARY INFORMATION: Title: Operation Enduring Freedom/Operation Iraqi Freedom Veterans Health Needs Assessment, VA Form 10-21091.

OMB Control Number: 2900-New (10-21091).

Type of Review: New collection.

Abstract: VA Form 10-21091 will be used to gather input from returning war zone veterans to identify their needs, concerns and health care preferences. VA will use the data collected to improve the quality and relevance of care offered as well as access to care through the removal of identified barriers to care and to develop care pathways as indicated by veterans' responses to the survey.

An agency may not conduct or sponsor, and a person is not required to respond to a collection of information unless it displays a currently valid OMB control number. The Federal Register Notice with a 60-day comment period soliciting comments on this collection of information was published on September 11, 2008 at pages 52901-52902.

Affected Public: Individuals and Households.

Estimated Annual Burden: 1,000 hours.

Estimated Average Burden Per Respondent: 20 minutes.

Frequency of Response: On occasion.

Estimated Number of Respondents: 3,000.

By direction of the Secretary.
Denise McLamb,
Program Analyst, Records Management Service.

[FR Doc. E8-27503 Filed 11-18-08; 8:45 am]

BILLING CODE 8320-01-P